ADMINISTRATIVE CONFERENCE OF THE UNITED STATES

Assembly of the Administrative Conference; Filing of Advisory Committee Charter

AGENCY: Administrative Conference of the United States.

ACTION: Notice.

SUMMARY: Notice is hereby given that the Administrative Conference of the United States will file an advisory committee charter for the Assembly of the Administrative Conference, in accordance with the Administrative Conference Act (as amended by the Regulatory Improvement Act of 2007) and the Federal Advisory Committee Act of 1972. The filing will take place 15 days after publication of this notice in the Federal Register.

DATES: August 23, 2010.

FOR FURTHER INFORMATION CONTACT: Sherland Peterson, Executive Assistant to the Chairman, Administrative Conference of the United States, 202-326-2305.

SUPPLEMENTARY INFORMATION: The purpose of the Assembly is to adopt recommendations for the improvement of administrative procedures in Federal agencies. The objectives of these recommendations are to ensure that private rights may be fully protected and regulatory activities and other Federal responsibilities may be carried out expeditiously in the public interest, to promote more effective public participation and efficiency in the rulemaking process, to reduce unnecessary litigation in the regulatory process, to improve the use of science in the regulatory process, and to improve the effectiveness of laws applicable to the regulatory process. In enacting the Administrative Conference Act, as amended, Congress has determined that the Assembly is necessary and in the public interest. The charter is appended to this notice.

Dated: July 28, 2010.
Paul R. Verkuil,
Chairman.

Appendix A—Federal Advisory Committee Charter

Assembly of the Administrative Conference of the United States Federal Advisory Committee Charter

1. Committee's Official Designation

Assembly of the Administrative Conference of the United States (Assembly).

2. Authority

The Assembly was established by the Administrative Conference Act, as amended, 5 U.S.C. 591 et seq. See also Regulatory Improvement Act of 2007, Public Law 110-290, codified at 5 U.S.C. 596 (authorizing appropriations for the Administrative Conference of the United States (ACUS) through fiscal year 2011). The Assembly is chartered as an advisory committee in accordance with the provisions of the Federal Advisory Committee Act, as amended, 5 U.S.C. App (FACA).

3. Objectives and Scope of Activities

The Assembly adopts recommendations for the improvement of administrative procedure in federal agencies. The objectives of these recommendations are to ensure that private rights may be fully protected and regulatory activities and other Federal responsibilities may be carried out expeditiously in the public interest, to promote more effective public participation and efficiency in the rulemaking process, to reduce unnecessary litigation in the regulatory process, to improve the use of science in the regulatory process, and to improve the effectiveness of laws applicable to the regulatory process.

4. Description of Duties

The Assembly reviews, evaluates, and votes on whether to approve proposals, reports, and/or recommendations of its committees pursuant to its bylaws established under the authority of 5 U.S.C. 595(2). The Assembly operates exclusively in an advisory capacity.

5. Agency or Official to Whom the Assembly Reports

Recommendations adopted by the Assembly are included in the annual report required to be submitted by the Chairman of ACUS to the President and Congress, and such interim reports as the Chairman considers desirable. 5 U.S.C. 595(c). Such recommendations may also be provided to administrative agencies, collectively or individually, or to the Judicial Conference of the United States. Id. § 594(1).

6. Support

The Assembly receives support services from ACUS.

7. Estimated Annual Operating Costs and Staff Years

The estimated annual fiscal year cost to operate the Assembly is estimated at $250,000, including 1.8 full-time equivalent staff years.

8. Designated Federal Officer (DFO)

The DFO (and Alternate DFOs) will be appointed by the Chairman of ACUS and will be full-time Federal employees, appointed in accordance with agency procedures. The DFO or an Alternate DFO will call and attend all meetings of the Assembly and any subcommittees established under the ACUS bylaws and prepare their agendas in accordance with the provisions of the Administrative Conference Act, as amended, and is authorized to adjourn any such meeting whenever he or she determines it to be in the public interest.

9. Estimated Number and Frequency of Meetings

The Assembly will meet approximately twice a year. There will be approximately six standing subcommittees of the Assembly, and from time to time additional special subcommittees, established under the authority of the bylaws of ACUS. Each such subcommittee will meet approximately four times a year. All meetings of the Assembly and such subcommittees will be open to the public and announced in accordance with FACA.

10. Duration

The Administrative Conference Act, as amended, prescribes continuing duration for ACUS.

11. Termination

This charter terminates two years from the date of filing. Pursuant to Section 14 of FACA, ACUS will file a charter for the Assembly upon the expiration of two years from the date hereof. Neither the Assembly nor its subcommittees will meet without a charter filed in accordance with FACA.

12. Membership and Designation

The appointment and designation of members of the Assembly is prescribed by the Administrative Conference Act, as amended. Under that Act, it must have between 75 and 101 members. These include the Chairman (a five year term), the ten Council members appointed by the President (three year terms), designees or appointees from Federal Executive departments, agencies, and independent regulatory boards and commissions (no fixed terms), and not more than 40 other members appointed by the Chairman with the approval of the Council (two year terms), who must “provide broad representation of the views of private citizens and utilize diverse experience.” 5 U.S.C. 593(b)(6). These members “shall be members of the practicing bar, scholars in the field of administrative law or government, or others specially informed by knowledge and experience with respect to Federal administrative procedure.” Id. The by-laws impose limits on the number of continuous terms of service by non-Government members. Council members may continue to serve until their successors are appointed. Under the by-laws, each member of the Assembly is expected to participate in all respects according to his or her own views and not necessarily as a representative of any agency or other group or organization, public or private. Accordingly, Non-Government members of the Assembly have been deemed to be Special Government Employees, and not Representatives.

Members, except the Chairman, are not entitled to pay for service. Members appointed from outside the Federal Government are entitled to travel expenses, including per diem instead of subsistence, as authorized by section 5703 of title 5 for individuals serving without pay, subject to availability of funds.

Under the by-laws, and subject to the approval of the Council, the Chairman may appoint senior fellows, special counsels, and liaison representatives to the Assembly and its subcommittees. Such appointees have all of the rights of members of the Assembly, but may not vote, except in committee deliberations, where the committee chairman generally has the authority to confer voting rights upon such appointees. All such appointees who are non-Government appointees have been deemed to be Special Government Employees, and not Representatives.

13. Subcommittees

The Assembly has authority to adopt by-laws and regulations that create such subcommittees as it considers necessary for the conduct of studies and the development of recommendations for consideration by the Assembly. 5 U.S.C. 595(a)(2). Subcommittee members are appointed by the Chairman with the approval of the Council. Id. § 595(c)(5). All subcommittee members are either members of the Assembly or senior fellows, special counsels, or liaison representatives as described above. All proposed recommendations of subcommittees will be considered by the Assembly prior to adoption.

14. Recordkeeping

The records made available to or prepared for or by the Assembly or its subcommittees shall be handled in accordance with General Records Schedule 26, Item 2 or other approved agency records disposition schedule. Such records shall be available for public inspection and copying, subject to the Freedom of Information Act, 5 U.S.C. 552.

15. Filing Date

August 23, 2010.

[FR Doc. 2010-19445 Filed 8-5-10; 8:45 am]

BILLING CODE 6110-01-P